DEPARTMENT OF HEALTH AND HUMAN SERVICES

National Institutes of Health

Submission for OMB Review; Comment Request; 2000 California Health Interview Survey Cancer Control Topical Module (CHIS CCTM)

SUMMARY: Under the provisions of Section 3506(c)(2)(A) of the Paperwork Reduction Act of 1995, the National Cancer Institute (NCI), the National Institutes of Health (NIH) has submitted to the Office of Management and Budget (OMB) a request to review and approve the information collection listed below. This proposed information collection was previously published in the Federal Register on November 4, 1999, pages 60215-6 and allowed 60 days for public comment. No public comments were received. The purpose of this notice is to allow an additional 30 days for public comment. The National Institutes of Health may not conduct or sponsor, and the respondent is not required to respond to, an information collection that has been extended, revised or implemented on or after October 1, 1995, unless it displays a currently valid OMB control number.

Proposed Collection: Title: 2000 California Health Interview Survey Cancer Control Topical Module (CHIS CCTM). Type of Information Request: New. Need and Use of Information Collection: The CHIS CCTM will assist NCI in the measurement of the burden of cancer in the population of the United States. Due to the rich diversity of California's population, NCI will be able to obtain information on racial/ethnic populations that are insufficiently represented in current national surveys. In addition, CHIS CCTM will use small area data for tracking emerging trends in cancer prevention and control at a geographic level that will impact future national trends. They survey will provide county-specific estimates for small racial/ethnic groups concentrated there. Data will be collected from July-December 2000, from approximately 55,000 respondents. Frequency of Response: One-time study. Affected Public: Individuals or households. Type of Respondents: Persons 18 yrs of age or older. The annual reporting burden is as follows: Estimated Number of Respondents: 55,000; Estimated Number of Responses per Respondent: 1; Average Burden Hours per Response: .2171; and Estimated Total Annual Burden Hours Requested: 11,962. There are no Capital Costs, Operating Costs, and/or Maintenance Costs to report.

Request for Comments: Written comments and/or suggestions from the public and affected agencies should address one or more of the following points: (1) Evaluate whether the proposed collection of information is necessary for the proper performance of the function of the agency, including whether the information will have practical utility; (2) The accuracy of the agency's estimate of the burden of the proposed collection of information, including the validity of the methodology and assumptions used; (3) Enhance the quality, utility and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, D.C. 20503, Attention: Desk Officer for NIH. To request more information on the proposed project or to obtain a copy of the data collection plans and instruments, contact Nancy Breen, National Cancer Institute, Executive Plaza North, Room 4005, Bethesda, Maryland 20892-7344, or call non-toll free number (301) 496-4675, or FAX your request to (301) 435-3710, or E-mail your request, including your address, to nb19k@nih.gov.

Comments Due Date: Comments regarding this information collection are best assured of having their full effect if received on or before June 7, 2000.

Dated: April 18, 2000.
Reesa L. Nichols,
NCI Project Clearance Liaison.

[FR Doc. 00-11439 Filed 5-5-00; 8:45 am]

BILLING CODE 4140-01-M